DEPARTMENT OF COMMERCE

International Trade Administration

[C-533-839]

Carbazole Violet Pigment 23 From the Republic of India: Preliminary Results of Countervailing Duty Administrative Review; 2017

AGENCY: Enforcement and Compliance, International Trade Administration, Department of Commerce.

SUMMARY: The Department of Commerce (Commerce) preliminarily determines that Pidilite Industries Limited (Pidilite), a producer/exporter of carbazole violet pigment 23 (CVP 23) from the Republic of India (India) received countervailable subsidies during the period of review (POR) January 1, 2017 through December 31, 2017. Interested parties are invited to comment on these preliminary results.

DATES: Applicable February 11, 2020.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On March 14, 2019, Commerce published a notice of initiation of an administrative review of the countervailing duty order on CVP 23 from India with respect to Pidilite.¹ On October 1, 2019, we extended the deadline for these preliminary results to January 16, 2020.² On January 15, 2020, we further extended this deadline until January 31, 2020.³ For a complete description of the events that followed the initiation of this review, see the Preliminary Decision Memorandum.⁴ A list of topics discussed in the Preliminary Decision Memorandum is included as the appendix to this notice. The Preliminary Decision Memorandum is a public document and is on file electronically via Enforcement and Compliance's Antidumping and Countervailing Duty Centralized Electronic System (ACCESS). ACCESS is available to registered users at http://access.trade.gov, and to all parties in the Central Records Unit, Room B8024 of the main Commerce building. In addition, a complete version of the Preliminary Decision Memorandum can be accessed directly at http://enforcement.trade.gov/frn/. The signed and electronic versions of the Preliminary Decision Memorandum are identical in content.

¹ See Initiation of Antidumping and Countervailing Duty Administrative Reviews, 84 FR 9297 (March 14, 2019).

² See Memorandum, “Carbazole Violet Pigment 23 from India: Extension of Deadline for Preliminary Results of Countervailing Duty Administrative Review,” dated October 1, 2019.

³ See Memorandum, “Carbazole Violet Pigment 23 from India: Second Extension of Deadline for Preliminary Results of Countervailing Duty Administrative Review,” dated January 15, 2020.

⁴ See Memorandum, “Decision Memorandum for the Preliminary Results of the Countervailing Duty Administrative Review of Carbazole Violet Pigment 23 from the Republic of India,” dated concurrently with, and hereby adopted by, this notice (Preliminary Decision Memorandum).

Scope of the Order

The merchandise covered by the order is CVP 23 identified as Color Index No. 51319 and Chemical Abstract No. 6358-30-1, with the chemical name of diindolo [3,2-b:3′,2′-m] triphenodioxazine, 8,18-dichloro-5,15-diethy-5,15-dihydro-, and molecular formula of C34H22Cl2N4O2.⁵ For a complete description of the scope of the order, see the Preliminary Decision Memorandum.

⁵ The bracketed section of the product description, [3,2-b:3′,2′-m], is not business proprietary information; the brackets are part of the chemical nomenclature.

Methodology

Commerce is conducting this administrative review in accordance with section 751(a)(1)(A) of the Tariff Act of 1930, as amended (the Act). For each subsidy program found to be countervailable, Commerce preliminarily finds that there is a subsidy, i.e., a government-provided financial contribution that gives rise to a benefit to the recipient, and that the subsidy is specific.⁶ For a full description of the methodology underlying our conclusions, see the Preliminary Decision Memorandum.

⁶ See sections 771(5)(B) and (D) of the Act regarding financial contribution; section 771(5)(E) of the Act regarding benefit, and section 771(5A) of the Act regarding specificity.

Preliminary Results of Review

As a result of this review, Commerce preliminarily finds that the net countervailable subsidy rate for the POR regarding Pidilite is as follows:

Company | Subsidy rate (Ad valorem)
Pidilite Industries Limited | 3.13

Assessment Rates

Consistent with section 751(a)(2)(C) of the Act, upon issuance of the final results, Commerce shall determine, and U.S. Customs and Border Protection (CBP) shall assess, countervailing duties on all appropriate entries covered by this review. Commerce intends to issue instructions to CBP 15 days after the date of publication of the final results of this review.

Cash Deposit Requirements

Pursuant to section 751(a)(1) of the Act, Commerce intends to instruct CBP to collect cash deposits of estimated countervailing duties in the amount indicated above with regard to shipments of subject merchandise entered, or withdrawn from warehouse, for consumption on or after the date of publication of the final results of this review. For all non-reviewed firms, Commerce will instruct CBP to continue to collect cash deposits of estimated countervailing duties at the most recent company-specific or all-others rate applicable to the company, as appropriate. These cash deposit instructions, when imposed, shall remain in effect until further notice.

Disclosure and Public Comment

Commerce will disclose to the parties in this proceeding the calculations performed in reaching these preliminary results within five days of the date this notice is published in the Federal Register.⁷ Interested parties may submit written arguments (case briefs) on these preliminary results within 30 days of publication of the preliminary results, and rebuttal arguments (rebuttal briefs) within five days after the time limit for filing case briefs.⁸ Pursuant to 19 CFR 351.309(d)(2), rebuttal briefs must be limited to issues raised in the case briefs. Parties who submit arguments are requested to submit with their argument: (1) A statement of the issue; (2) a brief summary of the argument; and (3) a table of authorities.⁹

⁷ See 19 CFR 351.224(b).

⁸ See 19 CFR 351.309(c); see also 19 CFR 351.309(d); and 351.303 (for general filing requirements).

⁹ See 19 CFR 351.309(c)(2); see also 19 CFR 351.309(d)(2).

Interested parties who wish to request a hearing, or to participate if one is requested, must submit a written request within 30 days after the date of publication of this notice.¹⁰ Requests should contain (1) the party's name, address, and telephone number; (2) the number of participants; and (3) a list of the issues to be discussed. If Commerce receives a request for a hearing, Commerce will inform parties of the schedule date for the hearing, which will be held at the main Commerce building at a time and location to be determined.¹¹ Parties should confirm by telephone, the date, time, and location of the hearing.

¹⁰ See 19 CFR 351.310(c).

¹¹ See 19 CFR 351.310.

Parties are reminded that briefs and hearing requests must be filed electronically using ACCESS and received successfully in their entirety by 5:00 p.m. Eastern Time on the due date.

Unless the deadline is extended pursuant to section 751(a)(3)(A) of the Act, Commerce intends to issue the final results of this administrative review, including the results of Commerce's analysis of the issues raised by parties in their comments, within 120 days after publication of these preliminary results.

Notification to Interested Parties

These preliminary results of review are issued and published in accordance with sections 751(a)(1) and 777(i)(1) of the Act, and 19 CFR 351.213 and 351.221(b)(4).

Dated: January 31, 2020.
Jeffrey I. Kessler,
Assistant Secretary for Enforcement and Compliance.

Appendix—List of Topics Discussed in the Preliminary Decision Memorandum

I. Summary

II. Background

III. Scope of the Order

IV. Period of Review

V. Subsidies Valuation Information

VI. Analysis of Programs

VII. Recommendation

[FR Doc. 2020-02675 Filed 2-10-20; 8:45 am]

BILLING CODE 3510-DS-P